DEPARTMENT OF COMMERCE

National Oceanic and Atmospheric Administration

RIN 0648-XD183

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit application contains all of the required information and warrants further consideration. This Exempted Fishing Permit would exempt commercial fishing vessels from the scallop trawl mesh size restriction to test an experimental trawl net as a means to reduce finfish bycatch in the southern New England and Mid-Atlantic scallop trawl fishery. The research is being conducted by Coonamessett Farm Foundation, Inc., under contract with the NMFS's Northeast Fisheries Science Center.

Regulations under the Magnuson-Stevens Fishery Conservation and Management Act require publication of this notification to provide interested parties the opportunity to comment on applications for proposed EFPs.

DATES: Comments must be received on or before April 22, 2014.

ADDRESSES: You may submit written comments by any of the following methods:

• Email: nmfs.gar.efp@noaa.gov. Include in the subject line “Comments on CFFI Scallop Trawl Bycatch EFP.”

• Mail: John K. Bullard, Regional Administrator, NMFS, Greater Atlantic Region Fisheries Office, 55 Great Republic Drive, Gloucester, MA 01930. Mark the outside of the envelope “Comments on CFFI Scallop Trawl Bycatch EFP.”

• Fax: (978) 281-9135.

FOR FURTHER INFORMATION CONTACT: Peter Christopher, Senior Fishery Policy Analyst, 978-281-9288.

SUPPLEMENTARY INFORMATION: Coonamessett Farm Foundation, Inc. (CFFI) submitted a complete application for an Exempted Fishing Permit (EFP) on February 27, 2014, to conduct commercial fishing activities that the regulations would otherwise restrict. The EFP would exempt 6 vessels from the 5.5-in (13.97-cm) minimum mesh size for scallop trawl gear, and would temporarily exempt the vessels from possession and minimum fish size limits for all species of fish in order for researchers to conduct onboard sampling. All fishing activity will otherwise be conducted under and consistent with normal scallop fishing operations.

This project proposes to test the effectiveness of a turtle excluder device (TED) in reducing finfish bycatch. Scallop trawls will be equipped with a TED in the extension of the net. The TED includes several rows of 3.5-in (8.89-cm) mesh to prevent turtle entanglement as it passes through the TED extension. The TED gear is not currently required in the scallop trawl fishery and this project is not evaluating the TED's effectiveness in reducing turtle catch. In order to estimate bycatch, CFFI personnel onboard the vessels will measure and record all catch (or subsamples) after each tow. Researchers from CFFI will work with 6 commercial fishing vessels. Each vessel will use the gear during otherwise normal scallop fishing operations for 5 days, 6 tows per day, for a total of up to 30 tows per vessel, and 180 tows for the project. All catch will be sampled onboard using standard catch sampling methods consistent with the researcher's contract with the Northeast Fisheries Science Center. Vessels would retain and land scallops and all other legal catch. Research will be conducted from May through October and will occur in southern New England and Mid-Atlantic waters.

NMFS has preliminarily determined that the CFFI application contains all of the required information. NMFS has preliminarily determined that the purpose, design and administration of the exemptions are consistent with the Scallop Fishery Management Plan's management objectives, the Magnuson-Stevens Fishery Conservation and Management Act, and other applicable law. Further, granting the exemption is not expected to have a detrimental effect on the fishery resources, cause any quota to be exceeded, or create any significant enforcement problems. Therefore, the application warrants further consideration.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 2, 2014.
James P. Burgess,
Acting Deputy Director, Office of Sustainable Fisheries, National Marine Fisheries Service.

[FR Doc. 2014-07728 Filed 4-4-14; 8:45 am]

BILLING CODE 3510-22-P